DEPARTMENT OF COMMERCE

National Oceanic and Atmospheric Administration

Revised Draft Framework for Developing the National System of Marine Protected Areas and Response to Comments

AGENCY: NOAA, Department of Commerce (DOC).

ACTION: Extension of public comment period; Notice on the Revised Draft Framework for Developing the National System of Marine Protected Areas.

SUMMARY: NOAA and the Department of the Interior published a notice in the Federal Register on March 17, 2008 (73 FR 14227) announcing a 30-day public comment period on the Revised Draft Framework for Developing the National System of Marine Protected Areas (Revised Draft Framework). Copies of the Revised Draft Framework can be requested via the contact information below or downloaded from http://www.mpa.gov. The deadline for public comment on the Revised Draft Framework is hereby extended.

DATES: The extended deadline for comments on the Revised Draft Framework is 11:59 EDT, May 16, 2008.

ADDRESSES: All comments regarding the Revised Draft Framework should be submitted to Joseph Uravitch, National MPA Center, N/ORM, NOAA, 1305 East-West Highway, Silver Spring, Maryland 20910. Comments sent via e-mail should be sent to mpa.comments@noaa.gov, and all comments sent by fax should be sent to 301-713-3110. E-mail and fax comments should state “Revised Draft Framework Comments” in the subject line.

FOR FURTHER INFORMATION CONTACT: Refer to the Federal Register notice of March 17, or contact Lauren Wenzel, NOAA, at 301-713-3100, or via e-mail at mpa.comments@noaa.gov.

Dated: April 16, 2008.
David M. Kennedy,
Director, Office of Ocean and Coastal Resource Management, National Oceanic and Atmospheric Administration.

[FR Doc. E8-8672 Filed 4-22-08; 8:45 am]

BILLING CODE 3510-08-M